DEPARTMENT OF COMMERCE

International Trade Administration

Proposed Information Collection; Comment Request; Client Focus Groups and Qualitative Interviews

AGENCY: International Trade Administration (ITA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 25, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument and instructions should be directed to Suzan Winters, (202) 482-6042, suzan.winters@trade.gov.

SUPPLEMENTARY INFORMATION:

I. Abstract

The International Trade Administration's U.S. Commercial Service (CS) is mandated by Congress to help U.S. businesses, particularly small and medium-sized companies, export their products and services to global markets.

As part of its mission, the CS uses “Quality Assurance Surveys” to collect feedback from the U.S. business clients it serves. These surveys ask the client to evaluate the U.S. Commercial Service on its customer service provision. Results from the surveys are used to make improvements to the agency's business processes in order to provide better and more effective export assistance to U.S. companies. In addition to collecting client feedback through Quality Assurance Surveys, the CS uses client focus groups as a mechanism to obtain further client feedback and substantiate customer service trends seen in the Surveys. Qualitative client focus group data will enrich the quantitative survey data by providing insights and a descriptive context to explain the trends that emerge in the quantitative data.

The CS uses the focus group questions to address quality improvement issues. The focus group discussion guide will enable CS to obtain a better understanding of actions that can be taken to improve the export-related services that CS provide to U.S. firms. In providing these services, the CS promotes the goods and services of small and medium-sized U.S. businesses in foreign markets.

II. Method of Collection

U.S. firms will be recruited via telephone to participate in focus group discussions. Firms may be current Commercial Service clients or potential clients. Data will be collected through either face-to-face focus group discussion forums (6-8 participants per focus group) and conference calls, or through one-on-one qualitative interviews either in person or via phone. A moderator will facilitate the discussions and notes will be transcribed via computer. All comments from participants will be anonymous.

III. Data

OMB Control Number: 0625-0254.

Form Number(s): None.

Type of Review: Regular submission (extension of a currently approved information collection).

Affected Public: Business or other for-profit organizations.

Estimated Number of Respondents: 96.

Estimated Time per Response: Surveys, 30-45 minutes; Focus Groups, 1 hour and 15 minutes.

Estimated Total Annual Burden Hours: 74.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 20, 2012.
Gwellnar Banks,
Management Analyst, Office of the Chief Information Officer.

[FR Doc. 2012-9967 Filed 4-24-12; 8:45 am]

BILLING CODE 3510-FP-P